OFFICE OF THE DIRECTOR OF NATIONAL INTELLIGENCE

Notice of Meeting: National Intelligence University Board of Visitors; Correction

AGENCY: National Intelligence University (NIU), Office of the Director of National Intelligence (ODNI).

ACTION: Notice of Federal Advisory Committee meeting; correction.

SUMMARY: This document corrects the DATES and SUPPLEMENTARY INFORMATION sections for the meeting notice published in the Federal Register of May 30, 2023, regarding notice of Federal Advisory Committee meeting on June 8, 2023.

DATES: The meeting was held Thursday June 8, 2023, 9 a.m. to 4 p.m., Bethesda, MD.

FOR FURTHER INFORMATION CONTACT: Ms. Patricia “Patty” Larsen, Designated Federal Officer, (301) 243-2118 (Voice), excom@odni.gov (email). Mailing address is National Intelligence University, Roberdeau Hall, Washington, DC 20511. Website: https://ni-u.edu/wp/about-niu/leadership-2/board-of-visitors/.

SUPPLEMENTARY INFORMATION: In FR Doc. 2023-11367, beginning on page 34548 in the Federal Register of May 30, 2023, make the following corrections:

1. On page 34548, in the second column, the DATES section is corrected to read as follows:

DATES: Thursday June 8, 2023, 9 a.m. to 4 p.m., Bethesda, MD.

2. On page 34548, in the second column, in the SUPPLEMENTARY INFORMATION section, correct the second sentence in the first paragraph to read as follows:

The meeting includes the discussion of personnel regarding presidential candidates and the Director of National Intelligence, or her designee, in consultation with the ODNI Office of General Counsel, has determined the meeting will be closed to the public under the exemptions set forth in 5 U.S.C. 552b(c)(6) and 552b(c)(9)(B).

3. On page 34548, in the third column, in the SUPPLEMENTARY INFORMATION section, correct the “Purpose of the Meeting” paragraph to read as follows:

I. Purpose of the Meeting: The Board will discuss critical issues and advise the Director of National Intelligence on the selection of the next President of the National Intelligence University.

4. On page 34548, in the third column, in the SUPPLEMENTARY INFORMATION section, correct the “Agenda” paragraph to read as follows:

II. Agenda: Call to Order and Presidential Candidates (Personnel).

Robert A. Newton,
Committee Management Officer and Deputy Chief Operating Officer.

[FR Doc. 2023-12984 Filed 6-15-23; 8:45 am]

BILLING CODE P